DEPARTMENT OF HEALTH AND HUMAN SERVICES

Centers for Medicare & Medicaid Services

[Document Identifier: CMS-1696, CMS-10167, CMS-R-306, CMS-10262 and CMS-10143]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Appointment of Representative; Use: This form will be completed by beneficiaries, providers and suppliers who wish to appoint representatives to assist them with obtaining initial determinations and filing appeals. The appointment of representative form must be signed by the party making the appointment and the individual agreeing to accept the appointment. Form Number: CMS-1696 (OMB# 0938-0950); Frequency: Occasionally; Affected Public: Individuals or households and businesses or other for-profits; Number of Respondents: 268,268; Total Annual Responses: 268,268; Total Annual Hours: 67,067.

2. Type of Information Collection Request: Revision of a currently approved collection; Title of Information Collection: Competitive Acquisition Program for Medicare Part B Drugs: CAP Physician Election Agreement; Use: The Competitive Acquisition Program (CAP) is required by Section 303(d) of the Medicare Modernization Act (MMA) which amended Title XVIII of the Social Security Act (the Act) by adding a new section 1847(B), which establishes a competitive acquisition program for the payment for Part B covered drugs and biologicals furnished on or after January 1, 2006. Physicians are given a choice between buying and billing these drugs under the average sales price (ASP) system, or obtaining these drugs from vendors selected in a competitive bidding process. Section 108 of the Medicare Improvements and Extension Act under Division B, Title I of the Tax Relief Health Care Act of 2006 amended Section 1847(b)(a)(3) of the Act and requires that CAP implement a post payment review process.

The CAP Physician Election Agreement is used annually by physicians to elect to participate in the CAP or to make changes to the previous year's selections. The information collected by these documents is used by CMS, its Medicare contractor, and the approved CAP vendor to meet programmatic requirements pertaining to physician election as established by the MMA. Form Number: CMS-10167 (OMB# 0938-0955); Frequency: Yearly; Affected Public: Business or other for-profits; Number of Respondents: 3,800; Total Annual Responses: 3,800; Total Annual Hours: 7,600.

3. Type of Information Collection Request: Extension of a currently approved collection; Title of Information Collection: Use of Restraint and Seclusion in Psychiatric Residential Treatment Facilities (PRTFs) for Individuals Under Age 21; Use: PRTFs are required to report deaths, serious injuries and attempted suicides to the State Medicaid Agency and the Protection and Advocacy Organization. They are also required to provide residents the restraint and seclusion policy in writing, and to document in the residents' records all activities involving the use of restraint and seclusion. Form Number: CMS-R-306 (OMB# 0938-0833); Frequency: Annually; Affected Public: Private Sector: Business or other for-profits; Number of Respondents: 500; Total Annual Responses: 329,500; Total Annual Hours: 501,750.

4. Type of Information Collection Request: New Collection; Title of Information Collection: Health Insurance Flexibility and Accountability (HIFA) Evaluation; Use: The HIFA initiative sought to increase health coverage of uninsured populations through a flexible waiver process emphasizing public subsidy of Employer-Sponsored Insurance (ESI). Testing whether that approach reduces the rate/number of uninsured is critically important to CMS. The proposed survey of HIFA enrollees in New Mexico and Oregon would provide the only data available to test certain fundamental HIFA effects, especially with reference to reduction of the uninsured population, the effectiveness of premium assistance for ESI and the possibility of crowd-out of private coverage. Form Number: CMS-10262 (OMB# 0938-NEW); Frequency: Once; Affected Public: Individuals or households; Number of Respondents: 800; Total Annual Responses: 800; Total Annual Hours: 400.

5. Type of Information Collection Request: Extension of a currently approved collection; Title of Information Collection: Monthly State File of Medicaid/Medicare Dual Eligible Enrollees; Use: The monthly file of dual eligible enrollees will be used to determine those duals with drug benefits for the phased down State contribution process required by the Medicare Modernization Act of 203. These data are also used to support Part D subsidy determinations and auto-assignment of individuals to Part D plans. Form Number: CMS-10143 (OMB# 0938-0958); Frequency: Monthly; Affected Public: State, Local or Tribal Governments; Number of Respondents: 51; Total Annual Responses: 612; Total Annual Hours: 6,120.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 2, 2008.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Room C4-26-05, 7500 Security Boulevard, Baltimore, Maryland 21244-1850.

Dated: March 21, 2008.
Michelle Shortt,
Director, Regulations Development Group, Office of Strategic Operations and Regulatory Affairs.

[FR Doc. E8-6510 Filed 3-31-08; 8:45 am]

BILLING CODE 4120-01-P